DEPARTMENT OF HOMELAND SECURITY

Coast Guard

33 CFR Part 165

[COTP San Francisco Bay 07-012]

RIN 1625-AA87

Security Zones; Major League Baseball All-Star Game, San Francisco Bay, CA

AGENCY: Coast Guard, DHS.

ACTION: Temporary final rule.

SUMMARY: The Coast Guard is establishing two temporary security zones on the navigable waters of the San Francisco Bay in the vicinity of San Francisco Pier 30/32 and McCovey Cove located in San Francisco, California. These regulated areas are necessary to provide security for participants, spectators, and the general public during this high profile event. The security zones will prohibit all persons and vessels from entering, transiting through, or anchoring within portions of the San Francisco Bay surrounding Pier 30/32 and McCovey Cove, unless authorized by the Captain of the Port (COTP) or his designated representative.

DATES: This rule is effective from 8 a.m. on July 7, 2007 through 11:59 p.m. on July 10, 2007.

ADDRESSES: Documents indicated in this preamble as being available for docket are part of docket COTP San Francisco 07-012 and are available for inspection or copying at the Waterways Safety Branch between 9 a.m. and 4 p.m., Monday through Friday, except Federal holidays.

FOR FURTHER INFORMATION CONTACT: Lieutenant Eric Ramos, U.S. Coast Guard Sector San Francisco, at (415) 556-2950 extension 143 or Sector San Francisco 24-hour Command Center at (415) 399-3547.

SUPPLEMENTARY INFORMATION:

Regulatory Information

We did not publish a notice of proposed rulemaking (NPRM) for this regulation. Under 5 U.S.C. 553(b)(B), the Coast Guard finds that good cause exists for not publishing an NPRM because the planning for this event was not finalized and presented in time to draft and publish an NPRM.

For the same reason listed in the previous paragraph, under 5 U.S.C. 553(d)(3), the Coast Guard finds that good cause exists for making this rule effective less than 30 days after publication in the Federal Register. Publishing an NPRM and delaying the effective date would be contrary to the public interest since the event would occur before the rulemaking process was complete.

Background and Purpose

Major League Baseball (MLB) and the San Francisco Giants are sponsoring a series of events leading up to and concluding with the 2007 MLB All-Star Game at AT&T Park in San Francisco from July 7, 2007 to July 10, 2007. This rule is necessary to provide for the security of participants, spectators, and the general public at this high profile event.

Discussion of Rule

The first regulated area in the vicinity of Pier 30/32 will include all navigable waters, from the surface to the seafloor, encompassed by connecting the following points to form a fifty-yard security zone around the pier: beginning at latitude 37°47.26′ N and longitude 122°23.23′ W; thence east to latitude 37°47.26′ N and longitude 122°23.01′ W; thence south to latitude 37°47.13′ N and longitude 122°23.01′ W; and lastly west to latitude 37°47.11′ N and longitude 122°23.24′ W.

The second regulated area in the vicinity of McCovey Cove (China Basin from 3rd Street Bridge to the Bay) will include all navigable waters, from the surface to the seafloor, encompassed by connecting the following points to form a security zone: Beginning at latitude 37°46.70′ N and longitude 122°23.12′ W; thence south-southeasterly to latitude 37°46.58′ N and longitude 122°23.10′ W; thence north-northwesterly to latitude 37°46.61′ N and longitude 122°23.39′ W; thence north-northwesterly to latitude 37°46.63′ N and longitude 122°23.41′ W; and then back to the beginning point (NAD 83). Booms will be placed in the water to mark the entry and exit points of this zone. The only vessels that will be permitted to enter are human-powered vessels 20 feet or less in length and other vessels specified by Major League Baseball or the City of San Francisco. All persons and vessels must consent to search before being permitted to enter this zone.

No person or vessel may enter or remain within the security zones unless authorized by the Captain of the Port, San Francisco, or his designated representative. The Coast Guard may be assisted by other Federal, State, or local law enforcement agencies in enforcing these security zones.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

Although this regulation restricts access to a portion of navigable waters, the effect of this regulation will not be significant because: (i) The zones encompass only small portions of the waterway; (ii) vessels may be allowed to enter the zones on a case-by-case basis with permission of the Captain of the Port or his designated representative.

The sizes of the zones are the minimum necessary to provide adequate security on the navigable waters adjacent to AT&T Park and other event venues. The entities most likely to be affected are pleasure craft engaged in recreational activities and sightseeing.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

We expect this rule may affect owners and operators of vessels, some of which may be small entities, intending to fish recreationally, sightsee, transit, or anchor in the waters affected by this security zone. This security zone will not have a significant economic impact on a substantial number of small entities for several reasons. This rule will only be in effect for less than four days during the duration of the events and the zones do not encompass areas that are highly trafficked. Vessel traffic can pass safely around the zone at Pier 30/32, and certain vessels will be allowed to enter and remain in the zone at McCovey Cove. Furthermore, other traffic may be allowed to pass through the zones with the permission of the Coast Guard patrol commander. Before the effective period, small entities and the maritime public will be advised of this security zone via Broadcast Notice to Mariners.

Assistance for Small Entities

Under section 213(a) of the Small Business Regulatory Enforcement Fairness Act of 1996 (Pub. L. 104-121), we offered to assist small entities in understanding the rule so that they could better evaluate its effects on them and participate in the rulemaking process. If the rule will affect your small business, organization, or government jurisdiction and you have questions concerning its provisions or options for compliance, please contact Lieutenant Eric Ramos, Waterways Safety Branch, U.S. Coast Guard Sector San Francisco at (415) 556-2950 extension 143, or the 24 hour Command Center at (415) 399-3547.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, paragraph (34)(g), of the Instruction, from further environmental documentation because we are creating security zones.

A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR Part 165 as follows:

PART 165—REGULATED NAVIGATION AREAS AND LIMITED ACCESS AREAS

1. The authority citation for part 165 continues to read as follows:

Authority: 33 U.S.C. 1226, 1231; 46 U.S.C. Chapter 701; 50 U.S.C. 191; 195; 33 CFR 1.05-1, 6.04-1, 6.04-6, and 160.5; Pub. L. 107-295, 116 Stat. 2064; Department of Homeland Security Delegation No. 0170.1.

2. Add § 165.T11-187 to read as follows:

§ 165.T11-187 Security Zones; Major League Baseball All-Star Game, San Francisco Bay, CA

(a) Location. The first regulated area in the vicinity of Pier 30/32 will include all navigable waters, from the surface to the seafloor, encompassed by connecting the following points to form a fifty-yard security zone around the pier: Beginning at latitude 37°47.26′ N and longitude 122°23.23′ W; thence east to latitude 37°47.26′ N and longitude 122°23.01′ W; thence south to latitude 37°47.13′ N and longitude 122°23.01′ W; and lastly west to latitude 37°47.11′ N and longitude 122°23.24′ W. The second regulated area in the vicinity of McCovey Cove (China Basin from 3rd Street Bridge to the Bay) will include all navigable waters, from the surface to the seafloor, encompassed by connecting the following points to form a security zone: beginning at latitude 37°46.70′ N and longitude 122°23.12′ W; thence south-southeasterly to latitude 37°46.58′ N and longitude 122°23.10′ W; thence north-northwesterly to latitude 37°46.61′ N and longitude 122°23.39′ W; thence north-northwesterly to latitude 37°46.63′ N and longitude 122°23.41′ W; and then back to the beginning point (NAD 83).

(b) Effective period. This section is effective from 8 a.m. on July 7, 2007 through 11:59 p.m. on July 10, 2007. If the event concludes prior to the scheduled termination time, the Coast Guard will cease enforcement of the security zones and will announce that fact via Broadcast Notice to Mariners.

(c) Regulations. In accordance with the general regulations in § 165.23 of this part, entry into, transit through, or anchoring within these security zones by all vessels and persons is prohibited, unless specifically authorized by the Captain of the Port San Francisco or his designated representative. Human-powered vessels 20 feet or less in length, and other vessels specified by Major League Baseball or the City of San Francisco, will be permitted to enter and remain in the security zone at McCovey Cove. All persons and vessels must consent to search before being permitted to enter this zone.

(d) Enforcement. All persons and vessels shall comply with the instructions of the Coast Guard Captain of the Port or the designated on-scene patrol personnel. Patrol personnel comprise commissioned, warrant, and petty officers of the Coast Guard onboard Coast Guard, Coast Guard Auxiliary, local, state, and federal law enforcement vessels. Upon being hailed by U.S. Coast Guard patrol personnel by siren, radio, flashing light, or other means, the operator of a vessel shall proceed as directed. The U.S. Coast Guard may be assisted in the patrol and enforcement of these security zones by other local, state and federal law enforcement as necessary.

Dated: June 6, 2007.
W.J. Uberti,
Captain, U.S. Coast Guard, Captain of the Port, San Francisco.

[FR Doc. E7-11602 Filed 6-14-07; 8:45 am]

BILLING CODE 4910-15-P